DEPARTMENT OF HOMELAND SECURITY

Federal Emergency Management Agency

[Docket ID: FEMA-2023-0013; OMB No. 1660-0022]

Agency Information Collection Activities: Submission for OMB Review, Comment Request; Community Rating System—Application Letter & Quick Check; Community Annual Recertification; Environmental & Historic Preservation Certification; NFIP Repetitive Loss Update Form

AGENCY: Federal Emergency Management Agency, Department of Homeland Security.

ACTION: 30-Day notice of renewal and request for comments.

SUMMARY: The Federal Emergency Management Agency (FEMA) will submit the information collection abstracted below to the Office of Management and Budget for review and clearance in accordance with the requirements of the Paperwork Reduction Act of 1995. The submission seeks comments concerning the application for the National Flood Insurance Program's (NFIP's) Community Rating System (CRS) program. This program allows communities to become eligible for discounts on the cost of flood insurance when the communities undertake activities to mitigate anticipated damage due to flooding. The application materials verify and document the community mitigation activities performed and provides FEMA with the information necessary to determine what flood insurance premium discounts are appropriate for participating communities.

DATES: Comments must be submitted on or before November 16, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, FEMA-Information-Collections-Management@fema.dhs.gov or Bill Lesser, Program Specialist, Federal Insurance and Mitigation Administration, (202) 646-2807, FEMA-CRS@fema.dhs.gov.

SUPPLEMENTARY INFORMATION: The Community Rating System (CRS), codified by the National Flood Insurance Act of 1968, as amended (42 U.S.C. 4022), was designed by the Federal Emergency Management Agency (FEMA) to encourage communities to undertake activities that will mitigate flooding and flood damage beyond the minimum standards for NFIP participation. This ratings system is a voluntary program for communities, and it would provide a method by which flood mitigation activities engaged in by these communities could be measured. The effect of this mitigation activity would reduce the exposure of the communities to damage resulting from flooding and in turn reduce the losses incurred as a result of this flooding. To encourage participation, discounts on flood insurance are offered within communities that successfully complete qualified mitigation actions, and the community ratings system provides the ability to measure these actions and to recertify the communities in successive years.

This proposed information collection previously published in the Federal Register on May 31, 2023, at 88 FR 34873 with a 60-day public comment period. Two public comments were received with one comment providing edits that FEMA has incorporated and one comment that is not germane to this collection. The purpose of this notice is to notify the public that FEMA will submit the information collection abstracted below to the Office of Management and Budget for review and clearance.

Collection of Information

Title: Community Rating System (CRS) Program—Application Letter and CRS Quick Check, Community Annual Recertification, Environmental and Historic Preservation Certifications, and NFIP Repetitive Loss Update Form.

Type of Information Collection: Renewal of a currently approved information collection.

OMB Number: 1660-0022.

FEMA Forms: FEMA Form FF-206-FY-23-100 (formerly 086-0-35), Community Rating System Application Letter and Quick Check; FEMA Form FF-206-FY-23-101 (formerly 086-0-35A), Community Annual Recertifications, FEMA Form FF-206-FY-23-102 (formerly 086-0-35B), Environmental and Historic Preservation Certifications, and FEMA Form FF-206-FY-23-103 (formerly 086-0-35C), NFIP Repetitive Loss Update Form.

Abstract: The Community Rating System (CRS) Application Letter & Quick Check, the CRS certification forms, and accompanying guidance are used by communities that participate in the National Flood Insurance Program's (NFIP) CRS program. The CRS is a voluntary program where flood insurance costs are reduced in communities that implement practices, such as building codes and public awareness activities, that are considered to reduce the risks of flooding and promote the purchase of flood insurance.

Affected Public: State, local, or Tribal government.

Estimated Number of Respondents: 2,170.

Estimated Number of Responses: 4,170.

Estimated Total Annual Burden Hours: 52,292.

Estimated Total Annual Respondent Cost: $4,173,947.

Estimated Respondents' Operation and Maintenance Costs: $0.

Estimated Respondents' Capital and Start-Up Costs: $0.

Estimated Total Annual Cost to the Federal Government: $12,992,290.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-22851 Filed 10-16-23; 8:45 am]

BILLING CODE 9111-47-P